DEPARTMENT OF THE INTERIOR

Fish and Wildlife Service

Notice of Availability of a Draft Study Design for the Hudson River Natural Resource Damage Assessment

AGENCY: U.S. Fish and Wildlife Service, Department of the Interior.

ACTION: Notice of availability.

SUMMARY: The U.S. Fish and Wildlife Service (Service), on behalf of the Department of the Interior (DOI), as a natural resource trustee, announces the release for public review of the Draft Study Design for spring 2004 avian investigations. The Draft Study Design describes the activities that constitute the Trustees' currently proposed approach to conducting investigations of avian species, particularly belted kingfisher and spotted sandpiper, beginning in spring 2004, as part of the Hudson River Natural Resource Damage Assessment (NRDA).

DATES: Written comments must be submitted on or before April 29, 2004.

ADDRESSES: Requests for copies of the Draft Study Design may be made to: Ms. Kathryn Jahn, U.S. Fish and Wildlife Service, New York Field Office, 3817 Luker Road, Cortland, New York 13045. Written comments or materials regarding the Draft Study Design should be sent to the same address.

FOR FURTHER INFORMATION CONTACT: Kathryn Jahn, Environmental Contaminants Branch, U.S. Fish and Wildlife Service, New York Field Office, 3817 Luker Road, Cortland, New York 13045. Interested parties may also call 607-753-9334 for further information.

SUPPLEMENTARY INFORMATION: The Draft Study Design is being released for public review and comment in accordance with the Trustees' NRDA Plan for the Hudson River issued in September 2002. That NRDA Plan was released in accordance with the NRDA Regulations found at title 43 of the Code of Federal Regulations part 11.

Interested members of the public are invited to review and comment on the Draft Study Design. Copies of the Draft Study Design are available from the Service's New York Field Office at 3817 Luker Road, Cortland, New York 13045. All comments received on the Draft Study Design will be considered and a response provided either through revision of the Study Design and incorporation into the Final Study Design or by letter to the commentator.

Comments, including names and home addresses of respondents, will be available for public review during regular business hours. Individual respondents may request confidentiality. If you wish us to withhold your name and or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Author: The primary author of this notice is Ms. Kathryn Jahn, New York Field Office, U.S. Fish and Wildlife Service, 3817 Luker Road, Cortland, New York 13045.

Authority: The authority for this action is the Comprehensive Environmental Response, Compensation and Liability Act of 1980, as amended, 42 U.S.C.

Dated: March 24, 2004.
Thomas J. Healy,
Acting Regional Director, Region 5, U.S. Fish and Wildlife Service.

[FR Doc. 04-7031 Filed 3-29-04; 8:45 am]

BILLING CODE 4310-55-P